DEPARTMENT OF JUSTICE

Notice of Lodging of Proposed Amendment to Consent Decree Under the Clean Water Act

Notice is hereby given that on March 9, 2009, a proposed “First Amendment to 2006 Consent Decree,” pertaining to United States and State of Indiana v. City of Indianapolis, Civ. No. 1:06-cv-1456, was lodged with the United States District Court for the Southern District of Indiana.

In the original action, the United States sought civil penalties and injunctive relief for alleged violations of Sections 301 and 402 of the Clean Water Act, 33 U.S.C. 1319 and 1342, in connection with the City's operation of its municipal wastewater and sewer system. In December 2006, the Court entered a Consent Decree which requires the City, among other things, to implement a Long Term Control Plan (“LTCP”) to reduce Combined Sewer Overflows (“CSO”). CSO Control Measure 16, as set forth in the Table 7-5 of Section 7 of the 2006 Consent Decree, requires the City to construct a shallow interceptor sewer having a total capacity of 24 million gallons. However, all of the Parties to the 2006 Consent Decree, have agreed that CSO Control Measure 16 should be modified to require the City to undertake construction of a conveyance and storage tunnel that would be constructed approximately 200 feet below ground. The modified project would provide for the construction of a storage and transport facility of approximately 18 feet in diameter, having a minimum storage volume of 54 million gallons, along a new alignment which would minimize environmental, right-of-way, and other issues that were discovered during the design of the original project. The modified project will provide for capture of additional overflow volumes from CSO 008 approximately three and one-half years earlier than currently outlined in the 2006 Consent Decree.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Indiana v. City of Indianapolis, D.J. Ref. 90-5-1-1-07292. The proposed “First Amendment to 2006 Consent Decree” may be examined at the Office of the United States Attorney for the Southern District of Indiana, 10 West Market St., Suite 2100, Indianapolis, IN 46204 (contact Asst. U.S. Attorney Thomas Kieper (317-226-6333)), and at U.S. EPA Region 5, 7th Floor Records Center, 77 West Jackson Blvd., Chicago, Illinois 60604 (contact Assoc. Regional Counsel Gary Prichard (312-886-0570)). During the public comment period, the Consent Decree may also be examined on the following Department of Justice Web site: http://www.usdoj.gov/enrd/ Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost), payable to the U.S. Treasury or, if by e-mail or fax, forward a check in that amount to the Consent Decree Library at the stated address.

William Brighton,
Assistant Chief, Environmental Enforcement Section, Environment and Natural Resources Division.

[FR Doc. E9-5434 Filed 3-12-09; 8:45 am]

BILLING CODE 4410-15-P